DEPARTMENT OF COMMERCE

National Oceanic and Atmospheric Administration

[I.D. 021805D]

Fisheries of the Caribbean, Southeastern Data, Assessment and Review (SEDAR); Fisheries of the South Atlantic; Fisheries of the Gulf of Mexico; Public Meeting

AGENCY: National Marine Fisheries Service (NMFS), National Oceanic and Atmospheric Administration (NOAA), Commerce.

ACTION: Notice of Assessment Workshop (SEDAR 8) for Caribbean Yellowtail Snapper and Spiny Lobster and Review Workshop (SEDAR 8) for Caribbean Yellowtail Snapper and Spiny Lobster and South Atlantic and Gulf of Mexico Spiny Lobster.

SUMMARY: The SEDAR process for the Caribbean Yellowtail Snapper and Spiny Lobster consists of a series of three workshops: a data workshop, an assessment workshop, and a review workshop. This is the eighth SEDAR cycle. The data workshop is completed. This is a notice of scheduling for the remaining workshops.

DATES: The SEDAR 8 Assessment Workshop for yellowtail snapper and spiny lobster will take place March 14 18, 2005. The review workshop will be held May 16 20, 2005. See SUPPLEMENTARY INFORMATION for specific dates and times.

ADDRESSES: The Assessment Workshop will be held at the Divi Carina Bay Resort, 25 Estate Turner Hole, Christianised, USVI 00820. The Review Workshop will be held at the Best Western San Juan Airport Hotel, Luis Munoz Marin International Airport, 2nd Floor, Carolina, Puerto Rico 00981.

FOR FURTHER INFORMATION CONTACT: Graciela Garcia-Moliner, Caribbean Fishery Management Council, 268 Munoz Rivera Ave, Suite 1108, San Juan, PR 00918-2577; telephone: (787) 766-5927; or John Carmichael, SEDAR Coordinator, SEDAR/South Atlantic Fishery Management Council, One Southpark Circle, Suite 306, Charleston, SC 29407; telephone: (843) 571-4366 or toll free (866) SAFMC-10; fax: (843) 769-4520.

SUPPLEMENTARY INFORMATION: The Gulf of Mexico, South Atlantic, and Caribbean Fishery Management Councils, in conjunction with NOAA Fisheries and the Atlantic and Gulf States Marine Fisheries Commissions, have implemented the SEDAR process, a multi-step method for determining the status of fish stocks in the Southeast Region. SEDAR typically includes three workshops: (1) Data Workshop, (2) Assessment Workshop, and (3) Review Workshop. The product of the Data Workshop and the Assessment Workshop is a stock assessment report, which describes the fisheries, evaluates the status of the stock, estimates biological benchmarks, projects future population conditions, and recommends research and monitoring needs. The assessment report is independently peer reviewed at the Review Workshop. The products of the Review Workshop are a Consensus Summary Report, which reports Panel opinions regarding the strengths and weaknesses of the stock assessment and input data, and an Advisory Report, which summarizes the status of the stock. Participants for SEDAR workshops are appointed by the Regional Fishery Management Councils. Participants include data collectors, database managers, stock assessment scientists, biologists, fisheries researchers, fishermen, environmentalists, Council members, international experts, and staff of Regional Councils, Interstate Commissions, and state and Federal agencies.

During the Assessment Workshop a stock assessment will be developed based on consensus data compiled during the Data Workshop. The product of the Assessment Workshop is a detailed assessment report which will comprise one component of the SEDAR 8 report. During the Review Workshop and independent panel of peers including stock assessment experts, biologists, researchers, fishermen, and environmentalists will review the assessment and data reports. The product of the Review Workshop will be a consensus summary detailing the review panel's opinions, recommendations, and conclusions regarding the stock assessment.

The Review Workshop for SEDAR 8 will also review a stock assessment of South Atlantic and Gulf of Mexico Spiny Lobster conducted by the State of Florida.

The Assessment Workshop will be held at the Divi Carina Bay Resort in Christiansted, St. Croix, USVI. The workshop schedule is as follows:

March 14, 2005, 1 p.m. - 10 p.m.

March 15 17, 2005, 8 a.m. - 10 p.m.

March 18, 2005, 8 a.m. - 12 p.m.

Please note that during the scheduled times there will be a mixture of workshop plenary sessions and dedicated group working sessions. The actual schedule of sessions during each day will be determined on an as-needed basis.

The Review Workshop will be held at the Best Western San Juan Airport in Carolina, Puerto Rico. The workshop schedule is as follows:

May 16, 2005, 1 p.m. - 10 p.m.

May 17 19, 2005, 8 a.m. - 10 p.m.

May 20, 2005, 8 a.m. - 12 p.m.

Please note that during the scheduled times there will be a mixture of workshop plenary sessions and dedicated group working sessions. The actual schedule of sessions during each day will be determined on an as-needed basis.

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the South Atlantic Fishery Management Council office (see FOR FURTHER INFORMATION CONTACT) at least 5 business days prior to the workshop.

Dated: February 22, 2005.
Alan D. Risenhoover,
Acting Director, Office of Sustainable Fisheries, National Marine Fisheries Service.

[FR Doc. E5-769 Filed 2-24-05; 8:45 am]

BILLING CODE 3510-22-S